DEPARTMENT OF HEALTH AND HUMAN SERVICES

National Institutes of Health

National Cancer Institute; Amended Notice of Meeting

Notice is hereby given of a change in the meeting of the National Cancer Institute Special Emphasis Panel, October 14, 2009, 8 a.m. to October 15, 2009, 6 p.m., Hilton Washington DC/Rockville Executive Meeting C, 1750 Rockville Pike, Rockville, MD, 20852 which was published in the Federal Register on July 17, 2009, 74FR34765.

The name of the committee on this Federal Register Notice has been amended to read ‘Epidemiology, Prevention, Control & Population Sciences’ and not as otherwise stated. The meeting is closed to the public.

Dated: August 17, 2009.
Jennifer Spaeth,
Director, Office of Federal Advisory Committee Policy.

[FR Doc. E9-20158 Filed 8-20-09; 8:45 am]

BILLING CODE 4140-01-P